DEPARTMENT OF COMMERCE

International Trade Administration

[A-557-815, A-549-830, A-552-816]

Welded Stainless Pressure Pipe From Malaysia, Thailand, and the Socialist Republic of Vietnam: Antidumping Duty Orders

AGENCY: Enforcement and Compliance, International Trade Administration, Department of Commerce.

SUMMARY: Based on affirmative final determinations by the Department of Commerce (the Department) and the International Trade Commission (the ITC), the Department is issuing antidumping duty orders on welded stainless pressure pipe (WSPP) from Malaysia, Thailand, and the Socialist Republic of Vietnam (Vietnam).

DATES: Effective date: July 21, 2014.

FOR FURTHER INFORMATION CONTACT: Erin Kearney (Malaysia), or Brandon Farlander/Trisha Tran (Thailand), or Lilit Astvatsatrian (Vietnam) AD/CVD Operations, Office IV, Enforcement and Compliance, International Trade Administration, U.S. Department of Commerce, 14th Street and Constitution Avenue NW., Washington, DC 20230; telephone: (202) 482-0167 or (202) 482-0182/(202) 482-4852 or (202) 482-6412, respectively.

SUPPLEMENTARY INFORMATION:

Background

In accordance with sections 735(d) and 777(i)(1) of the Tariff Act of 1930, as amended (the Act) and 19 CFR 351.210(c), on May 30, 2014, the Department published its affirmative final determinations of sales at less-than-fair-value in the antidumping duty investigations of WSPP from Malaysia, Thailand, and Vietnam, respectively.¹ On July 14, 2014, the ITC notified the Department of its affirmative determinations that an industry in the United States is materially injured within the meaning of section 735(b)(1)(A)(i) of the Act by reason of less-than-fair-value imports of WSPP from Malaysia, Thailand, and Vietnam.² In addition, the ITC notified the Department of its final determination that critical circumstances do not exist with respect to imports of subject merchandise from Malaysia that are subject to the Department's affirmative critical circumstances finding.³

¹ See Welded Stainless Pressure Pipe From Malaysia: Final Determination of Sales at Less Than Fair Value and Final Affirmative Determination of Critical Circumstances, in Part; 2012-2013, 79 FR 31090 (May 30, 2014); Welded Stainless Pressure Pipe From Thailand: Final Determination of Sales at Less Than Fair Value, 79 FR 31093 (May 30, 2014); and Welded Stainless Pressure Pipe from the Socialist Republic of Vietnam: Final Determination of Sales at Less Than Fair Value, 79 FR 31092 (May 30, 2014).

² See Welded Stainless Pressure Pipe from Malaysia, Thailand, and Vietnam, USITC Investigation Nos. 731-TA-1210-1212 (Final), USITC Publication 4477 (July 2014).

³ Id.

Scope of the Orders

The products covered by these orders are circular welded austenitic stainless pressure pipe not greater than 14 inches in outside diameter. For purposes of these orders, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of these investigations is dispositive.

Antidumping Duty Orders

As stated above, on July 14, 2014, in accordance with section 735(d) of the Act, the ITC notified the Department of its final determinations in these investigations, in which it found material injury with respect to WSPP from Malaysia, Thailand, and Vietnam.⁴ Because the ITC determined that imports of WSPP from Malaysia, Thailand, and Vietnam are materially injuring a U.S. industry, unliquidated entries of such merchandise from Malaysia, Thailand, and Vietnam, entered or withdrawn from warehouse, for consumption are subject to the assessment of antidumping duties.

⁴ Id.

Therefore, in accordance with section 736(a)(1) of the Act, the Department will direct U.S. Customs and Border Protection (CBP) to assess, upon further instruction by the Department, antidumping duties equal to the amount by which the normal value of the merchandise exceeds the export price (or constructed export price) of the merchandise, for all relevant entries of WSPP from Malaysia, Thailand, and Vietnam. These antidumping duties will be assessed on unliquidated entries of WSPP from Malaysia, Thailand, and Vietnam entered, or withdrawn from warehouse, for consumption on or after January 7, 2014, the date of publication of the preliminary determinations,⁵ but will not include entries occurring after the expiration of the provisional measures period and before publication of the ITC's final injury determination as further described below.

⁵ See Welded Stainless Pressure Pipe from Malaysia: Preliminary Determination of Sales at Less Than Fair Value, Affirmative Preliminary Determination of Critical Circumstances, in Part, and Postponement of Final Determination, 79 FR 808 (January 7, 2014); Welded Stainless Pressure Pipe from Thailand: Preliminary Determination of Sales at Less Than Fair Value and Postponement of Final Determination, 79 FR 812 (January 7, 2014); Welded Stainless Pressure Pipe from the Socialist Republic of Vietnam: Preliminary Determination of Sales at Less Than Fair Value and Postponement of Final Determination, 79 FR 806 (January 7, 2014).

Continuation of Suspension of Liquidation

In accordance with section 735(c)(1)(B) of the Act, we will instruct CBP to continue to suspend liquidation on all entries of WSPP from Malaysia, Thailand, and Vietnam. We will also instruct CBP to require cash deposits equal to the amounts as indicated below. These instructions suspending liquidation will remain in effect until further notice.

Accordingly, effective on the date of publication of the ITC's final affirmative injury determinations, CBP will require, at the same time as importers would normally deposit estimated duties on this subject merchandise, a cash deposit equal to the estimated weighted-average antidumping duty margins listed below.⁶

⁶ See section 736(a)(3) of the Act.

Provisional Measures

Section 733(d) of the Act states that instructions issued pursuant to an affirmative preliminary determination may not remain in effect for more than four months except where exporters representing a significant proportion of exports of the subject merchandise request the Department to extend that four-month period to no more than six months. At the request of exporters that account for a significant proportion of WSPP from Malaysia, Thailand, and Vietnam, we extended the four-month period to no more than six months in each case.⁷ In the underlying investigations, the Department published the preliminary determinations on January 7, 2014. Therefore, the six-month period beginning on the date of publication of the preliminary determinations ended on July 6, 2014. Furthermore, section 737(b) of the Act states that definitive duties are to begin on the date of publication of the ITC's final injury determination.

⁷ See Submission from Superinox Pipe Industry Sdn. Bhd., “Welded Stainless Steel Pipe from Malaysia; Request to Extend the Final Determination,” dated November 18, 2013; see also Submission from Thareus Co., Ltd. and Ametai Co., Ltd., “Welded Stainless Steel Pressure Pipe from Thailand: Request for Extension of Final Determination,” dated November 15, 2013; see also Submission from Thai-German Products Public Company Limited, “Welded Stainless Steel Pipe from Thailand; Request to Extend the Final Determination and to Extend the Deadline for TGP's Section D Response,” dated November 18, 2013; see also, Submission of SonHa International Corporation, “Sonha Request to Postpone Final Determination: Antidumping Duty Investigation of Welded Stainless Pressure Pipe from Vietnam (A-552-816),” dated November 14, 2013.

Therefore, in accordance with section 733(d) of the Act and our practice, we will instruct CBP to terminate the suspension of liquidation and to liquidate, without regard to antidumping duties, unliquidated entries of WSPP from Malaysia, Thailand, and Vietnam entered, or withdrawn from warehouse, for consumption after July 6, 2014, the date the provisional measures expired, until and through the day preceding the date of publication of the ITC's final injury determinations in the Federal Register. Suspension of liquidation will resume on the date of publication of the ITC's final determination in the Federal Register.

The weighted-average dumping margins are as follows:

Manufacturer/exporter | Weighted average margin (percent)
Malaysia:
Superinox Pipe Industry Sdn. Bhd./Superinox International Sdn. Bhd | 167.11
Kanzen Tetsu Sdn. Bhd | 167.11
Pantech Stainless & Alloy Industries Sdn. Bhd | 167.11
All Others | 22.70
Thailand:
Ametai Co., Ltd./Thareus Co., Ltd | 24.01
Thai-German Products Public Company Limited | 24.01
All Others | 23.89
Vietnam:
Sonha International Corporation/Sonha International Corporation | 16.25
Mejonson Industrial Vietnam Co., Ltd./Mejonson Industrial Vietnam Co., Ltd | 16.25
Vietnam-Wide Entity | 16.25

With regard to the ITC's negative critical circumstances determination on imports of WSPP from Malaysia, we will instruct CBP to lift suspension and to refund any cash deposit made to secure the payment of estimated antidumping duties with respect to entries of the merchandise entered, or withdrawn from warehouse, for consumption on or after October 9, 2013, (i.e., 90 days prior to the date of publication of the preliminary determination), but before January 7, 2014, the publication date of the preliminary determination.

This notice constitutes the antidumping duty orders with respect to WSPP from Malaysia, Thailand, and Vietnam pursuant to section 736(a) of the Act. Interested parties can find a list of antidumping duty orders currently in effect at http://enforcement.trade.gov/stats/iastats1.html.

These orders are published in accordance with section 736(a) of the Act and 19 CFR 351.211.

Dated: July 16, 2014.
Paul Piquado,
Assistant Secretary for Enforcement and Compliance.

[FR Doc. 2014-17206 Filed 7-18-14; 8:45 am]

BILLING CODE 3510-DS-P